DEPARTMENT OF THE INTERIOR

Fish and Wildlife Service

50 CFR Part 17

RIN 1018-AI46

Endangered and Threatened Wildlife and Plants; Reopening of Comment Period and Announcement of Public Hearings on Designation of Critical Habitat for the Preble's Meadow Jumping Mouse (Zapus hudsonius preblei)

AGENCY: Fish and Wildlife Service, Interior.

ACTION: Reopening of public comment period and announcement of public hearings.

SUMMARY: The Fish and Wildlife Service (Service) is reopening the comment period on the Service's proposal to designate critical habitat for the Preble's meadow jumping mouse (Zapus hudsonius preblei) (67 FR 47154, July 17, 2002). The comment period will remain open for 60 days. In addition, the Service will host two public hearings on the proposal on November 21, 2002, at the Jefferson County Courts and Administrative Building in Golden, Colorado.

DATES: The public comment period for the proposed rule is reopened for a period of 60 days, beginning November 21, 2002 and ending January 21, 2003.

ADDRESSES: You may submit written comments and information to Preble's Mouse Comments, Colorado Ecological Services Field Office, U.S. Fish and Wildlife Service, 755 Parfet Street, Suite 361, Lakewood, Colorado 80215, or by facsimile to 303-275-2371. You may hand deliver written comments to our Colorado Ecological Services Field Office at the address given above. You may send comments by electronic mail (e-mail) to fw6_pmjm@fws.gov. See the “Public Comments Solicited” section below for file format and other information on electronic filing. You may review comments and materials received, as well as supporting documentation used in preparation of this proposed rule, by appointment, during normal business hours, at the U.S. Fish and Wildlife Service's Colorado Field Office.

FOR FURTHER INFORMATION CONTACT: LeRoy Carlson, Colorado Field Supervisor, at the above address or telephone 303-275-2370.

SUPPLEMENTARY INFORMATION:

Background

The Preble's meadow jumping mouse, a small rodent in the family Zapodidae, is known to occur only in eastern Colorado and southeastern Wyoming. It lives primarily in heavily vegetated riparian habitats and immediately adjacent upland habitats. Habitat loss and degradation caused by agricultural, residential, commercial, and industrial development resulted in the Preble's meadow jumping mouse being listed as a threatened species throughout its range on May 13, 1998 (62 FR 26517).

On July 17, 2000, the Service proposed to designate critical habitat for the Preble's meadow jumping mouse pursuant to the Endangered Species Act (67 FR 47154). The proposed designation includes 19 habitat units totaling approximately 23,248 hectares (57,446 acres) found along 1,058.1 kilometers (657.5 miles) of rivers and streams in Colorado and Wyoming.

Critical habitat identifies specific areas, both occupied and unoccupied, that are essential to the conservation of a listed species and that may require special management considerations or protection. If the proposed rule is made final, section 7 of the Endangered Species Act will prohibit destruction or adverse modification of critical habitat by any activity funded, authorized, or carried out by any Federal agency; and Federal agencies proposing actions affecting areas designated as critical habitat must consult with us on the effects of their proposed actions, pursuant to section 7(a)(2) of the Endangered Species Act.

Public Comments Solicited

We intend any final action resulting from the proposal to be as accurate and as effective as possible. Therefore, we solicit comments or suggestions from the public, other concerned governmental agencies, the scientific community, industry, or any other interested party concerning the proposed rule.

If you wish to comment, you may submit your comments and materials concerning the proposal by any one of several methods (see ADDRESSES). If you would like to submit comments by electronic format, please submit them in ASCII file format and avoid the use of special characters and encryption. Please include your name and return e-mail address in your e-mail message. Please note that the e-mail address will be closed out at the termination of the public comment period. If you do not receive confirmation from the system that we have received your message, contact us directly by calling our Colorado Ecological Services Field Office at 303-275-2370.

Our practice is to make comments, including names and home addresses of respondents, available for public review during regular business hours. Individual respondents may request that we withhold their home address, which we will honor to the extent allowable by law. If you wish us to withhold your name or address, you must state this request prominently at the beginning of your comments. However, we will not consider anonymous comments. To the extent consistent with applicable law, we will make all submissions from organizations or businesses, and from individuals identifying themselves as representatives or officials of organizations or businesses, available for public inspection in their entirety. Comments and materials received will be available for public inspection, by appointment, during normal business hours at the address listed under ADDRESSES.

Public Hearings

The Service will host two public hearings on the proposal on November 21, 2002, at the Jefferson County Courts and Administrative Building at 100 Jefferson County Parkway in Golden, Colorado. The hearings will be held in the First Floor Hearing Room. Information sessions followed by an opportunity to ask questions regarding the proposal will begin at 1 p.m. and 6 p.m. and formal hearings, providing an opportunity to present comments on the proposal, will begin at 2 p.m. and 7 p.m.

Author

The author of this notice is Peter Plage, Colorado Field Office (see ADDRESSES above), telephone 303-275-2370.

Authority

Authority for this action is the Endangered Species Act of 1973, as amended (16 U.S.C. 1531 et seq.).

Dated: October 31, 2002.
Steve Williams,
Director, Fish and Wildlife Service.

[FR Doc. 02-29618 Filed 11-19-02; 8:45 am]

BILLING CODE 4310-55-P